NATIONAL AERONAUTICS AND SPACE ADMINISTRATION

[Notice: 03-093]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Mr. Harry Lupuloff, Code GP, National Aeronautics and Space Administration, Washington, DC 20546-0001.

FOR FURTHER INFORMATION CONTACT: Ms. Nancy Kaplan, NASA Reports Officer, (202) 358-1372.

Title: Application for a Patent License.

OMB Number: 2700-0039.

Type of review: Extension of a currently approved collection.

Need and Uses: An application for a license under a patent or a patent application owned by NASA is required by 35 U.S.C. 209 and 37 CFR part 404. The information supplied by an applicant for a patent license is used NASA to make agency determinations that NASA should either grant or deny a request for a patent license, and whether the license should be exclusive, partially exclusive, or nonexclusive.

Affected Public: Business or other for-profit; Individuals or households.

Number of Respondents: 85.

Responses Per Respondent: 1.

Annual Responses: 85.

Hours Per Request: 8.

Annual Burden Hours: 680.

Frequency of Report: Once.

Patricia L. Dunnington,
Chief Information Officer, Office of the Administrator.

[FR Doc. 03-19531 Filed 7-30-03; 8:45 am]

BILLING CODE 7510-01-P